ENVIRONMENTAL PROTECTION AGENCY

[ER-FRL-6629-7]

Environmental Impact Statements; Notice of Availability

Responsible Agency: Office of Federal Activities, General Information (202) 564-7167 or http://www.epa.gov/compliance/nepa/.

Weekly receipt of Environmental Impact Statements

Filed May 20, 2002 Through May 24, 2002

Pursuant to 40 CFR 1506.9.

EIS No. 020205, Draft EIS, FHW, CO, CO-9 (Frisco to Breckenridge) Highway Improvements Project, To Improve a 14.5-kilometer (9-mile) stretch of SH 9 between the Towns of Frisco and Breckenridge, To Decrease Travel Time, Improve Safety, Support Transportation needs of Local and Regional Travelers, Funding, Right-of-Way and COE Section 404 Permits, Summit County, CO, Comment Period Ends: July 15, 2002, Contact: Scott Sands (303) 969-6730.

EIS No. 020206, Draft EIS, FHW, MD, I-270/US 15 Multi-Modal Corridor Study, From Shady Grove Metro Station northwesterly to the US 15/Biggs Ford Road Intersection, To Relieve Congestion and Improve Safety Conditions, Montgomery and Frederick Counties, MD, Comment Period Ends: August 16, 2002, Contact: Dan Johnson (410) 962-4342.

EIS No. 020207, Final EIS, FHW, TX, President George Bush Turnpike (PGBT) Segment IV,

Improvement from Interstate Highway 35E to Interstate Highway 635, Funding and COE Section 404 Permit, Dallas County, TX, Wait Period Ends: July 01, 2002, Contact: C. D. Reagon (512) 536-5950.

EIS No. 020208, Draft EIS, FHW, OH, KY, Ironton-Russell Bridge Replacement Project, LAW-93C-0.00, PID 17359, To Replace the Structurally-Deficient and Functionally-Obsolete Bridge, Funding, NPDES, US Coast Guard Section 9 Bridge Permits and COE Section 10 and 404 Permits, Lawrence County, OH and Greenup County, KY, Comment Period Ends: July 15, 2002, Contact: Peter Jilek (614) 280-6835.

EIS No. 020209, Draft Supplement, COE, FL, PCS Phosphate—White Springs Mine Continuation Mining Operations, Proposes to Discharge Dredged/ Fill Material into 1,858 Acres of Jurisdictional Wetlands, Applications of “Life of Mine” Permit, Hamilton County, FL, Comment Period Ends: July 15, 2002, Contact: Richard Legere (352) 331-0732. This document is available on the Internet at: http://www.saj.usace.army.mil/permit/occidental.htm.[sic].

EIS No. 020210, Draft EIS, BLM, NV, Toquop Energy Project, Toquop Land Disposal Amendment to the Caliente Management Framework Plan (MFP), Constructing an 1,100-megawatt (MW) Natural Gas-Fired Water-Cooled Electric Power Generating Plant and Associated Features on Public Lands, Right-of-Way Permit, Lincoln, Clark and Washoe Counties, NV, Comment Period Ends: August 29, 2002, Contact: Dan Netcher (775) 289-1872. This document is available on the Internet at: http://www.nv.blm.gov.

EIS No. 020211, Draft EIS, AFS, MT, Pipestone Timber Sale and Restoration Project, To Propose Timber Harvest, Prescribed Fire Burning, Watershed Restoration, Associated Activities, Kootenai National Forest, Libby Ranger District, Lincoln County, MT, Comment Period Ends: July 15, 2002, Contact: Tim Charnon (406) 293-7773.

EIS No. 020212, Final EIS, COE, MS, Yalobusha River Watershed, Demonstration Erosion Control Project, Construction of Six Floodwater-Retarding Structures, Yazoo Basin, Webster, Calhoun and Chickasaw Counties, MS, Wait Period Ends: July 01, 2002, Contact: Wendell King (601) 631-5967.

EIS No. 020213, Draft EIS, FHW, PA, Mon/Fayette Transportation Project, Improvements from PA Route 51 to I-376 in Monroeville and Pittsburg, Funding, U.S. Coast Guard Bridge Permit and COE Section 404 Permit, Allegheny County, PA, Comment Period Ends: August 14, 2002, Contact: James A. Cheatham (717) 221-1720.

EIS No. 020214, Draft EIS, BLM, CA, Headwaters Forest Reserve, Implementation Resource Management Plan, Long-Term Management Plan and Planning Framework, Located in the northwestern Coast Ranges near Humboldt Bay in Humboldt County, CA, Comment Period Ends: September 06, 2002, Contact: Lynda J. Roush (916) 737-3010. This document is available on the Internet at: www.ca.blm.gov/arcata.

EIS No. 020215, Draft EIS, USA, KY, Blue Grass Army Depot the Destruction of Chemical Munitions, To Address the Design, Construction, Operation, and Closure of Facility, Madison County, KY, Comment Period Ends: July 15, 2002, Contact: Penny Robitaille (410) 436-4178.

EIS No. 020216, Final EIS, DOD, AL, CO, AR, KY, Assembled Chemical Weapons Destruction Technologies at One or More Sites: Design, Construction and Operation of One or More Pilot Test Facilities, Anniston Army Depot, AL; Pine Bluff Arsenal, AR; Blue Grass Army Depot, KY and Pueblo Chemical Depot, CO, Wait Period Ends: July 01, 2002, Contact: Jon Ware (410) 436-2210.

EIS No. 020217, Final EIS, DOE, SC, Savannah River Site, High-Level Waste Tank Closure (DOE/EIS-0303D), Implementation, Industrial Wastewater Closure Plan for the F and H-Area High-Level Waste Tank Systems, Aiken County, SC, Wait Period Ends: July 01, 2002, Contact: Andrew R. Grainger (800) 881-7292.

EIS No. 020218, Final EIS, NOA, Deep-sea Red Crab (chaceon quinquedens) Fisheries, Fishery Management Plan, Development and Implementation, Norfolk Canyon in the south to the Haque Line in the north, Continental United States and Exclusive Economic Zone (EEZ), Wait Period Ends: July 01, 2002, Contact: Steve Kokkinakis (978) 281-9300.

EIS No. 020219, Final EIS, FAA, NY, Adoption-Plattsburgh Air Force Base (AFB) Disposal and Reuse, Implementation for Use in Preparing a Record of Decision for US Department of Transportation's (USDOT), Federal Aviation's (FAA) Decisions Relative to Reuse, Clinton County, NY, Contact: Marie Jenet (516) 227-3811. USDOT, FAA has adopted the Department of Defense's, United States Air Force FEIS #950514, filed with the US Environmental Protection Agency on 11/09/1995. FAA was a cooperating Agency on the above project. Recirculation of the document is not necessary under 1506.3(c) of the Council on Environmental Regulations.

Dated: May 28, 2002.
Joseph C. Montgomery,
Director, NEPA Compliance Division, Office of Federal Activities.

[FR Doc. 02-13690 Filed 5-30-02; 8:45 am]

BILLING CODE 6560-50-P